Proclamation 8982 of May 17, 2013

Emergency Medical Services Week, 2013

By the President of the United States of America

A Proclamation

In every corner of our country, emergency medical services (EMS) practitioners are hard at work delivering hope and care to Americans in dire circumstances. In the face of chaos and tragedy, their steady hands provide vital, life-saving services, and their calm under pressure delivers comfort to neighbors in need. During Emergency Medical Services Week, we pause to offer our gratitude to these remarkable men and women, whose dedication is fundamental to our society's well-being.

In recent weeks, we have again seen the critical role EMS professionals play in times of crisis. When explosives went off at the Boston Marathon, EMS personnel rushed toward the blasts and, with selfless disregard for their own safety, immediately tended to the injured. Alongside countless volunteers and ordinary citizens, they demonstrated the very best of the American spirit—a spirit that EMS professionals display every day. My Administration remains dedicated to providing these courageous first responders, emergency medical technicians, 911 dispatchers, law enforcement officers, volunteers, and others throughout our health care system with the support they need to aid the American people in their darkest hours.

When Americans find themselves in times of crisis—from car accidents to national tragedies—our robust network of EMS professionals ensures that quality medical care is only moments away. This week, let us recommit to supporting EMS personnel and thanking them for their heroic contributions to our lives.

NOW, THEREFORE, I, BARACK OBAMA, President of the United States of America, by virtue of the authority vested in me by the Constitution and the laws of the United States, do hereby proclaim May 19 through May 25, 2013, as Emergency Medical Services Week. I encourage all Americans to observe this occasion by sharing their support with their local EMS providers and taking steps to improve their personal safety and preparedness.

IN WITNESS WHEREOF, I have hereunto set my hand this seventeenth day of May, in the year of our Lord two thousand thirteen, and of the Independence of the United States of America the two hundred and thirty-seventh.

[FR Doc. 2013-12400

Filed 5-21-13; 11:15 am]

Billing code 3295-F3